NATIONAL CREDIT UNION ADMINISTRATION

12 CFR Part 795

OMB Control Numbers

AGENCY: National Credit Union Administration (NCUA).

ACTION: Final rule.

SUMMARY: NCUA is updating its listing of regulations and their corresponding Office of Management and Budget (OMB) control numbers to comply with Paperwork Reduction Act requirements.

DATES: Effective March 16, 2004.

ADDRESSES: National Credit Union Administration, 1775 Duke Street, Alexandria, Virginia 22314-3428.

FOR FURTHER INFORMATION CONTACT: Regina M. Metz, Staff Attorney, Division of Operations, Office of General Counsel, at the above address or telephone: (703) 518-6540.

SUPPLEMENTARY INFORMATION:

A. Background

NCUA is amending its regulation on OMB control numbers to reflect changes in NCUA's information collection requirements and related OMB's control numbers occurring since NCUA last revised the display table. 12 CFR 795.1; 64 FR 49080, Sept. 10, 1999. NCUA displays the control numbers to comply with the Paperwork Reduction Act of 1995, 44 U.S.C. Chapter 35, and OMB's implementing regulation, 5 CFR part 1320.

The regulation conforms with OMB's recommendation that agencies issuing regulations that contain information collections display the related control numbers in a table in the CFR. 5 CFR 1320.3(f)(3) and 1320.5(b)(2)(ii)(C). The table identifies those NCUA regulations with their corresponding OMB control numbers but excludes, as recommended by OMB, OMB control numbers already displayed in NCUA's forms, questionnaires, instructions, and other written collections of information. 12 CFR 795.1(b); 5 CFR 1320.3(f).

B. Final Rule

The NCUA Board is issuing the amendments to § 795.1 as a final rule because the publication of the OMB numbers in a display table provides information to the public in a recommended format. Therefore, public comment and a delayed effective date are both unnecessary. If the rule is effective upon publication, then NCUA can immediately display the updated table. Accordingly, for good cause, the Board finds that, under 5 U.S.C. 553(b)(3)(B), notice and public procedures are impracticable, unnecessary, and contrary to the public interest; and, under 5 U.S.C. 553(d)(3), the rule will be effective immediately and without 30 days advanced notice of publication.

C. Regulatory Procedures

Regulatory Flexibility Act

The Regulatory Flexibility Act requires NCUA to prepare an analysis to describe any significant economic impact a rule may have on a substantial number of small entities, primarily those under one million dollars in assets. The final rule will not have a significant economic impact on a substantial number of small credit unions, and therefore, a regulatory flexibility analysis is not required.

Paperwork Reduction Act

NCUA has determined that the final rule would not increase paperwork requirements under the Paperwork Reduction Act of 1995 and regulations of the Office of Management and Budget.

Executive Order 13132

Executive Order 13132 encourages independent regulatory agencies to consider the impact of their actions on state and local interests. In adherence to fundamental federalism principles, NCUA, an independent regulatory agency as defined in 44 U.S.C. 3502(5), voluntarily complies with the executive order. This final rule would not have substantial direct effects on the states, on the relationship between the national government and the states, or on the distribution of power and responsibilities among the various levels of government. NCUA has determined that this final rule does not constitute a policy that has federalism implications for purposes of the executive order.

The Treasury and General Government Appropriations Act, 1999—Assessment of Federal Regulations and Policies on Families

The NCUA has determined that this final rule will not affect family well-being within the meaning of section 654 of the Treasury and General Government Appropriations Act, 1999, Pub. L. 105-277, 112 Stat. 2681 (1998).

Small Business Regulatory Enforcement Fairness Act

The Small Business Regulatory Enforcement Fairness Act of 1996 (Pub. L. 104-121) provides generally for congressional review of agency rules. A reporting requirement is triggered in instances where NCUA issues a final rule as defined by Section 551 of the Administrative Procedures Act. 5 U.S.C. 551. OMB is reviewing this rule to determine whether it is major for purposes of the Small Business Regulatory Enforcement Fairness Act of 1996.

List of Subjects in 12 CFR Part 795

Credit unions, Collection requirements.

By the National Credit Union Administration Board on March 5, 2004.
Becky Baker,
Secretary of the Board.

For the reasons set forth above, National Credit Union Administration amends 12 CFR part 795 as follows:

PART 795—OMB CONTROL NUMBERS

1. The authority citation for part 795 continues to read as follows:

Authority: 12 U.S.C. 1766(a) and 5 U.S.C. 3507(f).

2. In § 795.1, paragraphs (a) and (b) are revised to read as follows:

§ 795.1 OMB control numbers.

(a) Purpose. This subpart collects and displays the control numbers assigned to NCUA's information collection requirements by the Office of Management and Budget (OMB) under the Paperwork Reduction Act of 1995, 44 U.S.C. Chapter 35. NCUA intends to comply with the requirement that agencies display a current OMB control number upon the collection of information. 44 U.S.C. 3507(a)(3). The table does not include the currently valid OMB control numbers already on display in NCUA's forms, questionnaires, instructions, and other written collections of information. 5 CFR 1320.3(f).

(b) Display.

12 CFR part or section where identified and described | Current OMB control No.
701.1 | 3133-0015
701.14 | 3133-0121
701.21 | 3133-0139
| 3133-0058
701.22 | 3133-0141
701.23 | 3133-0127
701.26 | 3133-0149
701.31 | 3133-0068
701.32 | 3133-0114
| 3133-0117
701.33 | 3133-0130
701.34 | 3133-0140
701.36 | 3133-0040
702 | 3133-0154
703 | 3133-0133
704 | 3133-0129
706 | 3133-0165
707 | 3133-0134
708a | 3133-0153
708b | 3133-0024
| 3133-0099
711 | 3133-0152
712 | 3133-0149
714 | 3133-0151
716 | 3133-0163
722 | 3133-0125
723 | 3133-0101
740.2 | 3133-0098
740.3 | 3133-0149
741 | 3133-0099
| 3133-0142
| 3133-0163
748 | 3133-0033
| 3133-0108
749 | 3133-0032
| 3133-0057
| 3133-0058
| 3133-0059
| 3133-0080
760 | 3133-0143
792 | 3133-0146

[FR Doc. 04-5902 Filed 3-15-04; 8:45 am]

BILLING CODE 7535-01-P